DEPARTMENT OF THE INTERIOR

U.S. Geological Survey

[GX17GG00995TR00]

Notice of Public Meeting of Scientific Earthquake Studies Advisory Committee

AGENCY: U.S. Geological Survey, Department of the Interior.

ACTION: Notice.

SUMMARY: Pursuant to Public Law 106-503, the Scientific Earthquake Studies Advisory Committee (SESAC) will hold its next meeting on October 10-11, 2017, at the Golden Hotel, 800 Eleventh Street, Golden, Colorado, in the Mesa Meeting Room. The Committee shall advise the Director of the U.S. Geological Survey (USGS) on matters relating to the USGS's participation in the National Earthquake Hazards Reduction Program. The Committee comprises members from academia, industry, and State government. In this meeting, the Committee will review the current activities of the USGS Earthquake Hazards Program and discuss future priorities.

DATES: The meeting will be held from 9:00 a.m. to 5:00 p.m. (EST) on October 10, 2017, and 9:00 a.m. to 3:00 p.m. on October 11, 2017.

FOR FURTHER INFORMATION CONTACT: Dr. William Leith, U.S. Geological Survey, MS 905, 12201 Sunrise Valley Drive, Reston, Virginia 20192, (703) 648-6712, wleith@usgs.gov.

SUPPLEMENTARY INFORMATION: Meetings of the Scientific Earthquake Studies Advisory Committee are open to the public.

Public Disclosure: Before including your address, phone number, email address, or other personal identifying information in your comment, you should be aware that your entire comment—including your personal identifying information—may be made publicly available at any time. While you can ask us in your comment to withhold your personal identifying information from public review, we cannot guarantee that we will be able to do so.

William Leith,
Senior Science Advisor for Earthquake and Geologic Hazards.

[FR Doc. 2017-20546 Filed 9-25-17; 8:45 am]

BILLING CODE 4338-11-P